POSTAL SERVICE

39 CFR Part 111

Seamless Acceptance Program

AGENCY: Postal Service™.

ACTION: Proposed rule.

SUMMARY: The Postal Service proposes to revise Mailing Standards of the United States Postal Service, Domestic Mail Manual (DMM®) to add the mail preparation requirements governing participation in the Seamless Acceptance Program.

DATES: Submit comments on or before February 13, 2017.

ADDRESSES: Mail or deliver written comments to the manager, Product Classification, U.S. Postal Service, 475 L'Enfant Plaza SW., Room 4446, Washington, DC 20260-5015. If sending comments by email, include the name and address of the commenter and send to ProductClassification@usps.gov, with a subject line of “Seamless Acceptance Program.” Faxed comments are not accepted.

You may inspect and photocopy all written comments, by appointment only, at USPS® Headquarters Library, 475 L'Enfant Plaza SW., 11th Floor North, Washington, DC 20260. These records are available for review on Monday through Friday, 9 a.m.-4 p.m., by calling 202-268-2906.

FOR FURTHER INFORMATION CONTACT: Direct questions or comments to Heather Dyer by email at heather.l.dyer@usps.gov or phone (207) 482-7217, or Jacqueline Erwin by email at jacqueline.r.erwin@usps.gov or phone (202) 268-2158.

SUPPLEMENTARY INFORMATION: Seamless Acceptance is an option for entering commercial mailings. It leverages full-service mailing technology by using scans from USPS® mail processing equipment and hand held devices to automate verification and payment for commercial First-Class Mail cards, letters, and flats, Periodicals, Standard Mail letters and flats, and Bound Printed Matter Flats. Mailers may participate in the Seamless Acceptance Program by contacting the PostalOne! Helpdesk at 1-800-522-9085. To participate in the Seamless Acceptance Program, mailers must meet the standards in DMM 705.22.0. Additional information, including information regarding verification and associated assessments under the Seamless Acceptance Program, is provided in Publication 6850, Publication for Streamlined Mail Acceptance for Letters and Flats, at https://postalpro.usps.com/node/581.

List of Subjects in 39 CFR Part 111

Administrative practice and procedure, Postal Service.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

700 Special Standards

* * * * *

705 Advanced Preparation and Special Postage Payment Systems

* * * * *

[Add new section 22.0, to read as follows:]

22.0 Seamless Acceptance Program

22.1 Description

Seamless Acceptance uses Intelligent Mail barcodes, electronic documentation (eDoc), and scans from USPS mail processing equipment and hand held devices, to automate verification of and payment for First-Class Mail cards, letters, and flats, Periodicals, Standard Mail letters and flats, and Bound Printed Matter flats. Additional information, including information regarding verification and associated assessments on the Seamless Acceptance Program, is provided in Publication 6850, Publication for Streamlined Mail Acceptance for Letters and Flats, available at https://postalpro.usps.com/node/581.

22.2 Approval

Mailers may seek authorization to participate in the Seamless Acceptance Program by contacting the PostalOne! Helpdesk at 1-800-522-9085.

22.3 Basic Standards

First-Class Mail, Periodicals, and Standard Mail letters and flats and BPM barcoded flats, are potentially eligible for Seamless Acceptance. All mailpieces, including basic and nonautomation must be prepared as outlined in 23.0; mailers must meet the following standards:

a. Meet all the content and price eligibility standards for the price claimed.

b. Prepare 90% Full-Service eligible volume

c. Participate in the Seamless Parallel Program

d. Participate in eInduction under 20.0 for DMU-verified origin entry or destination entry-drop shipments.

22.3.1 Intelligent Mail Barcode Exception

Under special circumstances where mailers are unable to use an Intelligent Mail Barcode on every piece an exception may be granted by Business Mailer Support (BMS); see 608.8 for contact information.

* * * * *

We will publish an appropriate amendment to 39 CFR part 111 to reflect these changes, if our proposal is adopted.

Stanley F. Mires,
Attorney, Federal Compliance.

[FR Doc. 2016-32057 Filed 1-12-17; 8:45 am]

BILLING CODE 7710-12-P